GENERAL SERVICES ADMINISTRATION

Office of Management Services; Revision of a Standard Form by the Department of the Treasury

AGENCY: Office of Management Services, GSA.

ACTION: Notice.

SUMMARY: The Department of the Treasury revised part D of the SF 329, Administrative Wage Garnishment to:

a. Collect additional information on the employer; and

b. Authorize form for local reproduction.

You can obtain the updated camera copy in two ways:

On the Internet. Address: http://www.gsa.gov/forms; or

From Form-CAP, Attn.: Barbara Williams, (202) 501-0581

FOR FURTHER INFORMATION CONTACT: Ms. Barbara Williams, General Services Administration, (202) 501-0581 for availability of the form and Lois Holland, Department of the Treasury, (202) 622-1563 for any other information.

DATES: Effective April 10, 2003.

Dated: April 1, 2003.
Barbara M. Williams,
Deputy Standard and Optional Forms Management Officer, General Services Administration.

[FR Doc. 03-8841 Filed 4-9-03; 8:45 am]

BILLING CODE 6820-34-M